INTERNATIONAL TRADE COMMISSION

[Investigations Nos. 731-TA-757 and 759 (Review)]

Collated Roofing Nails From China and Taiwan

AGENCY: International Trade Commission.

ACTION: Termination of five-year reviews.

SUMMARY: The subject five-year reviews were initiated in October 2002 to determine whether revocation of the antidumping duty orders on collated roofing nails from China and Taiwan would be likely to lead to continuation or recurrence of dumping and of material injury to a domestic industry. On November 25, 2002, the Department of Commerce published notice that it was revoking the orders effective November 25, 2002 because “no domestic party responded to the sunset review notice of initiation by the applicable deadline” (67 FR 70578). Accordingly, pursuant to section 751(c) of the Tariff Act of 1930 (19 U.S.C. 1675(c)), the subject reviews are terminated.

EFFECTIVE DATE: November 25, 2002.

FOR FURTHER INFORMATION CONTACT: Robert Carpenter (202-205-3172), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov).

Authority: These reviews are being terminated under authority of title VII of the Tariff Act of 1930; this notice is published pursuant to section 207.69 of the Commission's rules (19 CFR 207.69).

Issued: November 25, 2002.
By order of the Commission.
Marilyn R. Abbott,
Secretary to the Commission.

[FR Doc. 02-30443 Filed 11-29-02; 8:45 am]

BILLING CODE 7020-02-P